DEPARTMENT OF THE INTERIOR

Bureau of Land Management

[OR-958-1430-ET; HAG01-0003; OR-55645]

Proposed Withdrawal and Opportunity for Public Meeting; Oregon

AGENCY: Bureau of Land Management, Interior.

ACTION: Correction.

SUMMARY: In the Notice of Proposed Withdrawal, published August 10, 2000, as FR Doc. 00-20235, the following corrections are made:

On page 49010, “(insert date signed)”, is hereby corrected to read, “July 14, 2000”. In addition, “For a period of 2 years from the date of publication of the original notice (May 14, 1998), ”, is hereby corrected to read, “For a period of 2 years from the date of publication of this notice,'.

Dated: October 4, 2000.
Sherrie L. Reid,
Acting, Chief Branch of Realty and Records Services, Oregon/Washington.

[FR Doc. 00-26275 Filed 10-12-00; 8:45 am]

BILLING CODE 4310-33-P